DEPARTMENT OF ENERGY

Federal Energy Regulatory Commission

[Docket No. EL14-44-000]

Transmission Agency of Northern California v. Pacific Gas and Electric Company; Notice of Complaint

Take notice that on April 30, 2014, pursuant to Rule 206 of the Federal Energy Regulatory Commission's (Commission) Rules of Practice and Procedure, 18 CFR 385.206 sections 206 and 306 of the Federal Power Act, 16 U.S.C. 824(e) and 825(e), Transmission Agency of Northern California (Complainant) filed a formal complaint against Pacific Gas and Electric Company (Respondent) alleging an anticipated violation by the Respondent of its rate schedule providing for coordinated operation of the high voltage AC interconnection (interconnection) between California and the Pacific Northwest, due to Respondent's failure to adequately develop, maintain, and support the import capability of its portion of the interconnection.

The Complainant states that a copy of the complaint has been served on the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 20, 2014.

Dated: May 1, 2014.
Kimberly D. Bose,
Secretary.

[FR Doc. 2014-10615 Filed 5-8-14; 8:45 am]

BILLING CODE 6717-01-P